DEPARTMENT OF LABOR

Employment and Training Administration

[[TA-W-64,646]

Chrysler, LLC, Sterling Stamping Plant, Including On-Site Leased Workers from Caravan Knight Facilities Management LLC, Sterling Heights, MI; Amended Certification Regarding Eligibility To Apply for Worker Adjustment Assistance and Alternative Trade Adjustment Assistance

In accordance with Section 223 of the Trade Act of 1974 (19 U.S.C. 2273), and section 246 of the Trade Act of 1974 (26 U.S.C. 2813), as amended, the Department of Labor issued a Certification of Eligibility to Apply for Worker Adjustment Assistance and Alternative Trade Adjustment Assistance on January 15, 2009, applicable to workers of Chrysler, LLC, Sterling Stamping Plant, Sterling Heights, Michigan. The notice was published in the Federal Register on February 2, 2009 (74 FR 5870).

At the request of the State agency, the Department reviewed the certification for workers of the subject firm. The workers assemble automotive vehicles; specifically the production of metal automotive stampings.

New information shows that workers leased from Caravan Knight Facilities Management LLC were employed on-site at the Sterling Heights, Michigan location of Chrysler, LLC, Sterling Stamping Plant. The Department has determined that these workers were sufficiently under the control of the subject firm to be considered leased workers.

Based on these findings, the Department is amending this certification to include workers leased from Caravan Knight Facilities Management LLC working on-site at the Sterling Heights, Michigan location of Chrysler, LLC, Sterling Stamping Plant.

The amended notice applicable to TA-W-64,646 is hereby issued as follows:

All workers of Chrysler, LLC, Sterling Stamping Plant, including on-site leased workers from Caravan Knight Facilities Management LLC, Sterling Heights, Michigan, who became totally or partially separated from employment on or after December 10, 2007, through January 15, 2011, are eligible to apply for adjustment assistance under Section 223 of the Trade Act of 1974, and are also eligible to apply for alternative trade adjustment assistance under Section 246 of the Trade Act of 1974.

Signed at Washington, DC, this 4th day of March 2010.
Richard Church,
Certifying Officer, Division of Trade Adjustment Assistance.

[FR Doc. 2010-5335 Filed 3-11-10; 8:45 am]

BILLING CODE 4510-FN-P